DEPARTMENT OF COMMERCE

International Trade Administration

[C-570-917]

Laminated Woven Sacks From the People's Republic of China: Partial Rescission of Countervailing Duty Administrative Review

AGENCY: Import Administration, International Trade Administration, Department of Commerce.

SUMMARY: The Department of Commerce (“the Department”) is rescinding in part the administrative review of the countervailing duty order on laminated woven sacks (“LWS”) from the People's Republic of China (“PRC”) for the period December 3, 2007 to December 31, 2008, with respect to Changshu Xinsheng Bags Producing Company Ltd. (“Changshu”). This partial rescission is based on Changshu's withdrawal of its review.

DATES: Effective Date: December 4, 2009.

FOR FURTHER INFORMATION CONTACT: Martha Douthit, AD/CVD Operations, Office 6, Import Administration, International Trade Administration, Department of Commerce, 14th Street and Constitution Avenue, NW., Washington, DC 20230; telephone: (202) 482-5050.

SUPPLEMENTARY INFORMATION:

Background

The Department of Commerce (the “Department”) published a notice of opportunity to request an administrative review of the countervailing duty order on LWS from the PRC. See Antidumping or Countervailing Duty Order, Finding, or Suspended Investigation; Opportunity To Request Administrative Review, 74 FR 41120 (August 14, 2009), as amended. Changshu Xinsheng Bags Producing Company Ltd. (“Changshu”) and Zibo Aifudi Plastic Packaging Co., Ltd. (“Zibo Aifudi”) timely requested an administrative review of the countervailing duty order on LWS from the PRC for the period December 3, 2007 through December 31, 2008. In accordance with Section 751(a)(1) of the Tariff Act of 1930 (“the Act”) and 19 CFR 351.221(c)(1)(i), of the Department's regulations, the Department published a notice initiating an administrative review of the countervailing duty order. See Initiation of Antidumping and Countervailing Duty Administrative Reviews and Requests for Revocation in Part, 74 FR 48224 (September 22, 2009).

Rescission, in Part, of Countervailing Duty Administrative Review

The Department's regulations provide that the Department will rescind an administrative review if the party that requested the review withdraws its request for review within 90 days of the date of publication of the notice of initiation. See 19 CFR 351.213(d)(1). Changshu, the only party to request a review of its particular sales of LWS, timely withdrew its request of the review within the 90-day deadline. Therefore, in accordance with 19 CFR 351.213(d)(1), the Department is rescinding this administrative review of the countervailing duty order with respect to Changshu. This administrative review will continue with respect to Zibo Aifudi.

Assessment

The Department will instruct U.S. Customs and Border Protection (“CBP”) to assess countervailing duties on all appropriate entries. For Changshu, countervailing duties shall be assessed, if applicable, at rates equal to the cash deposit or withdrawal from warehouse, for consumption. The Department intends to issue appropriate assessment instructions directly to CBP 15 days after publication of this notice.

Notification Regarding Administrative Protective Order

This notice serves as a final reminder to parties subject to administrative protection orders (APO) of their responsibility concerning the disposition of proprietary information disclosed under APO in accordance with 19 CFR 351.305(a)(3) of the Department's regulations, which continues to govern business proprietary information in this segments of the proceeding. Timely written notification of the return/destruction of APO materials or conversion to judicial protective order is hereby requested. Failure to comply with the regulations and terms of an APO is a violation which is subject to sanction.

This notice is issued and published in accordance with sections 751(a)(1) and 777(i)(1) of the Act, as amended, and 19 CFR 351.213(d)(4).

Dated: November 30, 2009.
John M. Andersen,
Acting Deputy Assistant Secretary for Antidumping and Countervailing Duty Operations.

[FR Doc. E9-29005 Filed 12-3-09; 8:45 am]

BILLING CODE 3510-DS-P